DEPARTMENT OF HEALTH AND HUMAN SERVICES

National Institutes of Health

Center for Scientific Review; Amended Notice of Meeting

Notice is hereby given of a change in the meeting of the Macromolecular Structure and Function C Study Section, October 3, 2013, 8:00 a.m. to October 4, 2013, 10:00 a.m., Washington Plaza Hotel, 10 Thomas Circle NW., Washington, DC 20005 which was published in the Federal Register on September 9, 2013, 78 FR 174, Pgs. 55086-55087.

The meeting will be held at National Institutes of Health, 6701 Rockledge Dr., Bethesda, MD 20892. The meeting will start on November 18, 2013 at 10:00 a.m. and end on November 20, 2013 at 6:00 p.m. The meeting is closed to the public.

Dated: October 25, 2013.
Anna Snouffer,
Deputy Director, Office of Federal Advisory Committee Policy.

[FR Doc. 2013-25899 Filed 10-30-13; 8:45 am]

BILLING CODE 4140-01-P